DEPARTMENT OF ENERGY

Federal Energy Regulatory Commission

Notice of Application To Amend License, and Soliciting Comments, Motions To Intervene, and Protests

September 6, 2005.

Take notice that the following hydroelectric application has been filed with the Commission and is available for public inspection:

a. Application Type: Amendment of license to change project design and capacity.

b. Project No.: 6641-067.

c. Date Filed: May 3, 2005.

d. Applicant: City of Marion, Kentucky, and Smithland Hydroelectric Partners.

e. Name of Project: Smithland Lock and Dam Project.

f. Location: The Project is located on the Ohio River in Livingston County, Kentucky. The project will affect federal lands at the U.S. Army Corps of Engineers' Smithland Lock and Dam.

g. Filed Pursuant to: Federal Power Act, 16 U.S.C. 791a-825r.

h. Applicant Contact: Mr. James Price, P.O. Box 5550, Aiken, SC 29804, (803) 642-2749.

i. FERC Contact: Any questions on this notice should be addressed to Mohamad Fayyad at (202) 502-8759 or mfayyad@ferc.gov.

j. Deadline for filing comments and/or motions: October 7, 2005.

k. Description of Filing: The City of Marion, Kentucky, and Smithland Hydroelectric Partners filed an application to modify the configuration of the Smithland Lock and Dam Project. The licensees propose to install three generating units (as was originally authorized) instead of the currently authorized Hydromatrix design that consists of 170 small generating units. The proposed design would change the installed capacity from 83 MW to 66 MW, and the hydraulic capacity from 63,500 cfs to 48,000 cfs.

l. Locations of Applications: A copy of the application is available for inspection and reproduction at the Commission in the Public Reference Room, located at 888 First Street NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call toll-free 1-866-208-3676 or e-mail FERCOnlineSupport@ferc.gov. For TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. All documents (original and eight copies) should be filed with: Magalie R. Salas, Secretary, Federal Energy Regulatory Commission, 888 First Street, NE., Washington DC 20426. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E5-4964 Filed 9-9-05; 8:45 am]

BILLING CODE 6717-01-P